DEPARTMENT OF TRANSPORTATION

Federal Aviation Administration

Notice of Opportunity for Public Comment To Dispose of 1.1 Acres at Worcester Regional Airport, Worcester, MA

AGENCY: Federal Aviation Administration (FAA), DOT.

ACTION: Request for public comments.

SUMMARY: Notice is being given that the FAA is considering a request from the City of Worcester, MA to Dispose of 1.1 Acres at Worcester Regional Airport, Worcester, MA. The land is no longer needed for aviation purposes and can be disposed without affecting future aviation needs of the airport. The revenue generated by the disposal will be placed into the airport's operation and maintenance fund.

DATES: Comments must be received on or before March 24, 2024.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Ms. Amy E Quam, Compliance Specialist, Federal Aviation Administration New England Region Airports Division, 1200 District Avenue, Burlington, Massachusetts 01803. Telephone: 781-238-7618.

Issued in Burlington, Massachusetts, on February 23, 2024.
Julie Seltsam-Wilps,
Deputy Director, ANE-600.

[FR Doc. 2024-04132 Filed 2-27-24; 8:45 am]

BILLING CODE 4910-13-P